DEPARTMENT OF ENERGY

Federal Energy Regulatory Commission

[Project No. 2000-010]

New York Power Authority; Notice of Meeting to Discuss Preliminary Terms and Conditions for Relicensing of the St. Lawrence-FDR Power Project

November 8, 2000. The establishment of the Cooperative Consultation Process (CCP) Team and the Scoping Process for relicensing of the St. Lawrence-FDR Power Project was identified in the Notice of Memorandum of Understanding, Formation of Cooperative Consultation Process Team, and Initiation of Scoping Process Associated With Relicensing the St. Lawrence-FDR Power Project issued May 2, 1996, and found in the Federal Register dated May 8, 1996, Volume 61, No. 90, on page 20813.

The CCP Team will meet on November 21, 2000, to discuss the preliminary terms and conditions filed with the Federal Energy Regulatory Commission (Commission) per the Notice issued on August 11, 2000, and the Notice extending the comment period to September 29, 2000. The meeting will be conducted at the New York Power Authority's (NYPA) Robert Moses Powerhouse, at 10:00 a.m., located in Massena, New York.

If you would like more information about the CCP Team and the relicensing process, please contact any one of the following individuals:

Mr. Thomas R. Tatham, New York Power Authority, (212) 468-6747, (212) 468-6141 (fax), e-mail: Tatham.T@NYPA.Gov

Mr. Bill Little, Esq., New York State Dept. of Environmental Conservation, (518) 457-0986, (518) 457-3978 (fax), ­e-mail:WGLittle@GW.DEC.State.NY.US

Dr. Jennifer Hill, Federal Energy Regulatory Commission, (202) 219-2797, (202) 219-2152 (fax), e-mail:Jennifer.Hill@FERC.FED.US

Further information about NYPA and the St. Lawrence-FDR Power Project can be obtained through the Internet at http://www.ferc.fed.us.

Linwood A. Watson, Jr.,
Acting Secretary.

[FR Doc. 00-29204 Filed 11-14-00; 8:45 am]

BILLING CODE 6717-01-M